DEPARTMENT OF LABOR

Employment and Training Administration

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed new collection of data concerning the operation and accuracy of state worker profiling models. A copy of the proposed information collection request (ICR) can be obtained at no charge by contacting the office listed below in the addressee section of this notice.

DATES: Written comments must be submitted to the office listed in the addressee section below on or before July 26, 2005.

ADDRESSES: Scott Gibbons, Office of Workforce Security, U.S. Department of Labor, Room S-4231, 200 Constitution Avenue, NW., Washington, DC 20210. e-mail: gibbons.scott@dol.gov; phone: 202-693-3008; fax: 202-693-2874.

FOR FURTHER INFORMATION CONTACT: Scott Gibbons, e-mail: gibbons.scott@dol.gov; phone: 202-693-3008; fax: 202-693-2874.

SUPPLEMENTARY INFORMATION:

I. Background

Worker Profiling and Reemployment Services (WPRS), as specified in Pub. L. 103-152, is a system that attempts to identify UI claimants with a high potential for exhausting their regular benefit entitlement and directs them to re-employment services to hasten their return to work. Under this program, the worker profiling model is responsible for discriminating between those claimants who are likely to exhaust their UI benefits and those who are not.

In spite of the importance the model plays in this process, limited research has been done to determine how effective states are at targeting those most likely to exhaust their benefits. There are barriers to performing clear research on this topic. The purpose of this study is to improve state worker profiling models by: (1) Establishing an approach for evaluating the accuracy of worker profiling models, (2) applying this approach to current state models to determine how effective they are at predicting Unemployment Insurance (UI) benefit exhaustion, and (3) based on the results, developing guidance on best practices in operating and maintaining worker profiling models. Ideally, we would like to evaluate every state's profiling model. In order to accomplish this goal, the proposed data collection will be mandatory.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

This project has two primary objectives. The first objective is to collect information concerning the characteristics of worker profiling models that states currently use. To accomplish this, a survey on the operational and structural aspects of the worker profiling models will be sent to states. The second objective is to evaluate the accuracy of predictions from worker profiling models. To accomplish this, a methodology to evaluate model performance has been developed. Data provided by states will be used to measure and analyze the accuracy of state worker profiling models, and to identify, to the greatest extent possible given the available data and analysis results, factors correlated with good or poor model performance. A report detailing the results of the analysis and the collected survey information will be produced. This report will summarize the analysis into conclusions and/or suggestions (i.e., best practices) for how states can improve systems that are under-performing.

Type of Review: New.

Agency: U.S. Department of Labor, Employment and Training Administration.

Title: Evaluation of State Worker Profiling Models.

Affected Public: State Government Workforce Agencies.

Cite/Reference/Form/etc.: See chart below.

Total Respondents: 53.

Frequency: One-time survey and data collection.

Cite/reference | Total respondents | Frequency | Total responses | Average time per response (hours) | Burden (hours)
Survey | 53 | One-time request | 53 | 2 | 106
Data request | 53 | One-time request | 53 | 30 | 1590
Totals |  |  | 106 |  | 1696

Total Burden Cost (capital/startup): Based on an hourly rate of $31.38 for fiscal year 2005, estimated cost burden is $53,220.48.

Total Burden Cost (operating/maintaining): There are no ongoing costs for this project.

Comments submitted in response to this comment request will be summarized and/or included in the request for Office of Management and Budget approval of the information collection request; they will also become a matter of public record.

Dated: May 23, 2005.
Emily Stover DeRocco,
Assistant Secretary, Employment and Training Administration.

[FR Doc. E5-2692 Filed 5-26-05; 8:45 am]

BILLING CODE 4510-30-P